DEPARTMENT OF ENERGY

Federal Energy Regulatory Commission

Combined Notice of Filings #2

May 10, 2006.

Take notice that the Commission received the following electric rate filings.

Docket Numbers: ER06-926-000

Applicants: ISO New England Inc.; New England Power Pool Participants Committee

Description: ISO New England Inc and New England Power Pool (NEPOOL) Participants Committee submit their First Revised Sheet 8522 et al to FERC Electric Tariff, Schedule 3.

Filed Date: 05/02/2006

Accession Number: 20060508-0173

Comment Date: 5 pm Eastern Time on Tuesday, May 23, 2006

Docket Numbers: ER06-927-000

Applicants: BP Energy Company

Description: BP Energy Co. submits proposed revisions to its market-based rate tariff, First Revised Volume No. 1.

Filed Date: 05/02/2006

Accession Number: 20060508-0174

Comment Date: 5 pm Eastern Time on Tuesday, May 23, 2006

Docket Numbers: ER06-928-000

Applicants: Southern California Edison Company

Description: Southern California Edison Company submits a revised rate sheet no. 54 to rate schedule no. 424, Amended & Restated Eldorado System Conveyance and Co-Tenancy Agreement b/w Nevada Power Co. et al.

Filed Date: 05/02/2006

Accession Number: 20060508-0175

Comment Date: 5:00 pm Eastern Time on Tuesday, May 23, 2006

Docket Numbers: ER06-929-000

Applicants: Granite State Electric Company

Description: Granite State Electric Co. dba National Grid submits a tariff for borderline sales designated as FERC Electric Tariff, Original Volume 2.

Filed Date: 05/02/2006

Accession Number: 20060508-0209

Comment Date: 5 pm Eastern Time on Tuesday, May 23, 2006

Docket Numbers: ER06-930-000

Applicants: Florida Power Corporation

Description: Florida Power Corp. dba Progress Energy Florida submits its annual cost factor updates that implement the contractually authorized changes in certain cost components for interchange services etc.

Filed Date: 05/02/2006

Accession Number: 20060508-0210

Comment Date: 5 pm Eastern Time on Tuesday, May 23, 2006

Docket Numbers: ER06-931-000

Applicants: Black River Macro Discretionary Fund Ltd.

Description: Black River Macro Discretionary Fund Ltd. submits an application for order accepting initial market-based tariff, waiving regulations and granting blank approvals.

Filed Date: 05/03/2006

Accession Number: 20060508-0177

Comment Date: 5 pm Eastern Time on Wednesday, May 24, 2006

Docket Numbers: ER06-932-000

Applicants: Black River Commodity Energy Fund LLC

Description: Black River Commodity Energy Fund LLC submits an application for order accepting initial market-based tariff, waiving regulations, and granting blanket approvals.

Filed Date: 05/03/2006

Accession Number: 20060508-0176

Comment Date: 5 pm Eastern Time on Wednesday, May 24, 2006

Docket Numbers: ER06-933-000

Applicants: ZZ Corporation

Description: ZZ Corporation submits its petition for acceptance of initial tariff, waivers and blanket authority.

Filed Date: 05/03/2006

Accession Number: 20060508-0178

Comment Date: 5 pm Eastern Time on Wednesday, May 24, 2006

Docket Numbers: ER06-934-000

Applicants: Puget Sound Energy, Inc.

Description: Puget Sound Energy, Inc. submits an unexecuted Interconnection and Facilities Agreement with the U.S. Department of Defense, to be effective 7/3/06.

Filed Date: 05/04/2006

Accession Number: 20060508-0179

Comment Date: 5 pm Eastern Time on Thursday, May 25, 2006

Docket Numbers: ER06-935-000

Applicants: The Cincinnati Gas and Electric Company

Description: The Cincinnati Gas and Electric Co. dba Duke Energy Ohio submits a Notice of Cancellation of its FERC Electric Tariff, Original Volume 1, Fayette Tariff.

Filed Date: 05/04/2006

Accession Number: 20060508-0181

Comment Date: 5 pm Eastern Time on Thursday, May 25, 2006

Docket Numbers: ER06-936-000

Applicants: The Cincinnati Gas and Electric Company

Description: The Cincinnati Gas and Electric Co. dba Duke Energy Ohio submits a notice of cancellation of its market-based rate tariff, designated as FERC Electric Tariff, Original Volume 1, Vermillion Tariff.

Filed Date: 05/04/2006

Accession Number: 20060508-0180

Comment Date: 5 pm Eastern Time on Thursday, May 25, 2006

Docket Numbers: ER06-937-000

Applicants: The Cincinnati Gas and Electric Company

Description: The Cincinnati Gas and Electric Co. dba Duke Energy Ohio submits a Notice of Cancellation of its FERC Electric Tariff, Original Volume No. 1, Washington Tariff.

Filed Date: 05/04/2006

Accession Number: 20060508-0182

Comment Date: 5 pm Eastern Time on Thursday, May 25, 2006

Docket Numbers: ER06-938-000

Applicants: The Cincinnati Gas and Electric Company

Description: The Cincinnati Gas and Electric Co. dba Duke Energy Ohio submits a Notice of Cancellation of its FERC Electric Tariff, Original Volume 1, Hanging Rock Tariff.

Filed Date: 05/04/2006

Accession Number: 20060508-0183

Comment Date: 5 pm Eastern Time on Thursday, May 25, 2006

Docket Numbers: ER06-939-000

Applicants: Mountainview Power Company, LLC

Description: Mountainview Power Co. LLC submits its informational filing for 2005 as required by FERC's 2/25/04 order.

Filed Date: 05/01/2006

Accession Number: 20060501-4003

Comment Date: 5 pm Eastern Time on Monday, May 22, 2006

Docket Numbers: ER06-940-000

Applicants: The Cincinnati Gas and Electric Company

Description: The Cincinnati Gas and Electric Co. dba Duke Energy Ohio submits a Notice of Cancellation of its market-based rate tariff, FERC Electric Tariff, Original Volume 1, Lee Tariff.

Filed Date: 05/04/2006

Accession Number: 20060508-0166

Comment Date: 5 pm Eastern Time on Thursday, May 25, 2006

Docket Numbers: ER06-941-000; ER06-942-000; ER06-943-000

Applicants: Duke Power Company LLC

Description: Duke Power Co. LLC submits a Notice of Cancellation and a Notice of Succession and Duke Energy Shared Services submits a Notice of Succession.

Filed Date: 05/03/2006

Accession Number: 20060508-0167

Comment Date: 5 pm Eastern Time on Wednesday, May 24, 2006

Docket Numbers: ER06-944-000

Applicants: Public Service Company of New Mexico

Description: Public Service Company of New Mexico submits its Amended and Restated San Juan Project Participation Agreement dated 3/23/03 with Tucson Electric Power Co et al.

Filed Date: 05/01/2006

Accession Number: 20060509-0047

Comment Date: 5 pm Eastern Time on Monday, May 22, 2006

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov. or call (866) 208-3676 (toll free). For TTY, call (202) 502-8659.

Magalie R. Salas,
Secretary.

[FR Doc. E6-7485 Filed 5-16-06; 8:45 am]

BILLING CODE 6717-01-P